ENVIRONMENTAL PROTECTION AGENCY

[FRL-7498-3]

Science Advisory Board; Advisory Council on Clean Air Compliance Analysis; Notification of an Upcoming Public Meeting and Three Planning Teleconferences

AGENCY: Environmental Protection Agency (EPA).

ACTION: Notice.

SUMMARY: The EPA Advisory Council on Clean Air Compliance Analysis (Council) is announcing a public meeting and a public planning teleconference. It is also announcing planning teleconferences for its two subcommittees, the Air Quality Modeling Subcommittee (AQMS) and the Health Effects Subcommittee (HES).

DATES:

May 28, 2003: The planning teleconference call meeting for the Council will be held from 12 to 2 p.m. (eastern time).

May 29, 2003: The planning teleconference call meeting for the HES will be held from 12 to 1:30 p.m. (eastern time).

May 30, 2003: The planning teleconference call meeting for the AQMS will be held from 2 to 3:30 p.m. (eastern time).

June 11-13, 2003: The public meeting for the Council will begin June 11, at 9 a.m. and adjourn on June 13, 2003, no later than 2 p.m. (eastern time) on that day. The meeting agenda will be posted on the SAB Web site, http://www.epa.gov/sab/agendas.htm, one week before the meeting.

ADDRESSES: The public meeting of the Council will be held in Washington, DC. The meeting location will be announced on the SAB Web site, http://www.epa/sab. For further information concerning the public meeting, please contact Dr. Angela Nugent, DFO (see contact information below). Participation in the teleconference call meetings will be by teleconference only.

FOR FURTHER INFORMATION CONTACT: Any member of the public wishing further information regarding the public meeting may contact Dr. Angela Nugent, Designated Federal Officer (DFO), U.S. EPA Science Advisory Board by telephone/voice mail at (202) 564-4562 or via e-mail at nugent.angela@epa.gov. Members of the public who wish to obtain the call-in number and access code to participate in any of the teleconference meetings must contact Ms. Sandra Friedman, EPA Science Advisory Board Staff, at telephone/voice mail: (202) 564-2526, via e-mail at: Friedman.Sandra@epa.gov. General information about the SAB can be found in the SAB Web site at http://www.epa.gov/sab.

SUPPLEMENTARY INFORMATION: Summary: Pursuant to the Federal Advisory Committee Act, Pub. L. 92-463, notice is hereby given that the Council will hold a public meeting to provide advice to the EPA on the Agency's plan to develop the third in a series of statutorily mandated comprehensive analyses of the total costs and total benefits of programs implemented pursuant to the Clean Air Act, and that the Council and its two subcommittees will also hold public teleconferences to plan for the public meeting. The dates and times for both the meeting and teleconference are provided above.

Background: Background on the Council, its subcommittees, and on the advisory project that will be the focus of the meeting and teleconferences described in this notice was provided in a Federal Register notice published on February 14, 2003 (68 FR 7531-7534).

In forming the Health and Ecological Effects Subcommittee discussed in that Federal Register notice, the Science Advisory Board Staff Office received nominations for health effects experts. It has therefore decided to rename the Subcommittee as the “Health Effects Subcommittee” of the Council and to work with the Council to form a new subcommittee to focus on ecological effects or to develop another appropriate mechanism to consider and give due attention to ecological effects, including coordination with a new SAB Committee on “Valuing the Protection of Ecological Systems and Services.”

Meeting Accommodations: Individuals requiring special accommodation to access the public meetings listed above, should contact the DFO at least five business days prior to the meeting so that appropriate arrangements can be made.

Dated: May 8, 2003.
Robert Flaak,
Acting Deputy Director, EPA Science Advisory Board Staff Office.

[FR Doc. 03-12028 Filed 5-13-03; 8:45 am]

BILLING CODE 6560-50-P